DEPARTMENT OF HOMELAND SECURITY

U.S. Citizenship and Immigration Services

[CIS No. 2465-08; DHS Docket No. USCIS-2008-0074]

Special Immigrant Nonminister Religious Worker Program Act

AGENCY: U.S. Citizenship and Immigration Services, DHS.

ACTION: Notice.

SUMMARY: As required by the Special Immigrant Nonminister Religious Worker Program Act, Public Law 110-391, this notice announces that the Secretary of Homeland Security has issued final regulations to eliminate or reduce fraud related to the granting of special immigrant status for nonminister religious workers. Those regulations became effective upon publication in today's issue of the Federal Register.

DATES: This notice is effective November 26, 2008.

FOR FURTHER INFORMATION CONTACT: Emisa Tamanaha, Adjudications Officer, Service Center Operations, U.S. Citizenship and Immigration Services, Department of Homeland Security, 20 Massachusetts Avenue, NW., Washington, DC 20529, telephone (202) 272-1505.

SUPPLEMENTARY INFORMATION: Section 203(b)(4) of the Immigration and Nationality Act (Act), 8 U.S.C. 1153(b)(4), provides for the admission as special immigrants of individuals who qualify as professional or other religious workers in a religious vocation or occupation as defined at sections 101(a)(27)(C)(ii)(II) and (III) of the Act, 8 U.S.C. 1101(a)(27)(C)(ii)(II) and (III). These provisions, originally enacted in 1990, have been extended multiple times and last expired on October 1, 2008.

On October 10, 2008, President Bush signed the Special Immigrant Nonminister Religious Worker Program Act, Public Law 110-391. Section (2)(a) of Public Law 110-391 amended subclauses (II) and (III) of section 101(a)(27)(C)(ii) of the Act, by extending the October 1, 2008, expiration date to March 6, 2009. Section (2)(b) of Public Law 110-391 requires the Secretary of Homeland Security to (1) Issue final regulations to eliminate or reduce fraud related to the granting of special immigrant status to nonminister religious workers; (2) submit a certification to Congress that such regulations have been issued and are in effect; (3) publish a notice in the Federal Register announcing that the regulations have been issued and are in effect. Section (2)(d) of Public Law 110-391 prescribes that the statutory extension of the nonminister classifications is not effective until the certification to Congress is submitted.

On November 26, 2008, the Secretary of Homeland Security published final regulations to eliminate or reduce fraud in the entire religious worker program. These regulations address both the nonimmigrant religious worker classification and the special immigrant religious worker classification, including nonministers as defined at section 101(a)(27)(C)(ii)(II) and (III) of the Act. The regulations are effective on November 26, 2008.

This notice is issued in compliance with section (2)(b)(2) of Public Law 110-391 to certify that the regulations have been published and are in effect.

Dated: November 21, 2008.
Michael Chertoff,
Secretary.

[FR Doc. E8-28224 Filed 11-25-08; 8:45 am]

BILLING CODE 9111-97-P